DEPARTMENT OF LABOR

Occupational Safety and Health Administration

Maritime Advisory Committee for Occupational Safety and Health; Notice of Meeting

AGENCY: Occupational Safety and Health Administration (OSHA), Labor.

ACTION: Maritime Advisory Committee for Occupational Safety and Health (MACOSH); Notice of meeting.

SUMMARY: The Maritime Advisory Committee for Occupational Safety and Health (MACOSH) was established to advise the Assistant Secretary of Labor for Occupational Safety and Health on issues relating to occupational safety and health in the maritime industries. The purpose of this Federal Register notice is to announce the MACOSH and workgroup meetings scheduled for February 7 and 8, 2007.

DATES: The workgroups will meet on February 7, 2007 from 8:30 a.m. until approximately 4 p.m. The MACOSH Committee will meet on February 8, 2007 from 8:30 a.m. to approximately 4:30 p.m.

ADDRESSES: The Committee will meet at the Sheraton Inner Harbor, 300 South Charles Street, Baltimore, Maryland 21202. On Wednesday February 7, 2007, the workgroups will meet in the Severn II and Severn III rooms. On Thursday February 8, 2007, the MACOSH Committee will meet in the Chesapeake I room.

Mail comments, views, or statements in response to this notice to Jim Maddux, Director, Office of Maritime, OSHA, U.S. Department of Labor, Room N-3609, 200 Constitution Avenue NW., Washington, DC 20210; phone (202) 693-2086; FAX: (202) 693-1663.

FOR FURTHER INFORMATION CONTACT: For general information about MACOSH and this meeting contact: Jim Maddux, Director, Office of Maritime, U.S. Department of Labor, Room N-3609, 200 Constitution Avenue, NW., Washington, DC 20210; phone: (202) 693-2086. Individuals with disabilities wishing to attend the meeting should contact Vanessa L. Welch at (202) 693-2086 no later than January 31, 2007 to obtain appropriate accommodations.

SUPPLEMENTARY INFORMATION: All MACOSH meetings, including work group meetings, are open to the public. All interested persons are invited to attend the MACOSH meetings at the times and places listed above. OSHA has formed five MACOSH workgroups and assigned each workgroup a number of occupational safety and health topics. Each workgroup may discuss one or more of the topics listed below as time permits:

Health workgroup: beryllium, radiation, welding fumes, and diesel emissions;

Longshoring workgroup: radio communications with crane operators, traffic safety, cargo ship design issues, and maintenance and repair cross training;

Cranes and falls workgroup: scaffold erection and disassembly, lashing platforms, inflatable personal flotation devices, and fall protection systems;

Shipyard workgroup: review of OSHA Safety and Health Injury Prevention Sheet (SHIPS) on ship-fitting, hot work on coatings, and ship module placement; and

Outreach workgroup: leading indicators, root cause analysis, industry pocket guides; and Hispanic worker issues.

The agenda for the full committee will include reports from each workgroup and a discussion of shipyard and marine terminal injury and illness data.

Public Participation: Written data, views or comments for consideration by MACOSH on the various agenda items listed above should be submitted to Vanessa L. Welch at the address listed above. Submissions received by January 31, 2007 will be provided to Committee members and will be included in the record of the meeting. Requests to make oral presentations to the Committee may be granted as time permits. Anyone wishing to make an oral presentation to the Committee on any of the agenda items listed above should notify Vanessa L. Welch by January 31, 2007. The request should state the amount of time desired, the capacity in which the person will appear, and a brief outline of the content of the presentation.

Authority: Edwin G. Foulke, Jr., Assistant Secretary of Labor for Occupational Safety and Health, directed the preparation of this notice under the authority granted by 6(b)(1) and 7(b) of the Occupational Safety and Health Act of 1970 (29 U.S.C. 655, 656), the Federal Advisory Committee Act (5 U.S.C. App. 2), and 29 CFR part 1912.

Signed at Washington, DC, this 10th day of January, 2007.
Edwin G. Foulke, Jr.,
Assistant Secretary of Labor.

[FR Doc. E7-606 Filed 1-17-07; 8:45 am]

BILLING CODE 4510-26-P